NATIONAL ARCHIVES AND RECORDS ADMINISTRATION

[NARA-22-0011; NARA-2022-051]

Records Schedules; Administrative Correction Notice

AGENCY: National Archives and Records Administration (NARA).

ACTION: Notice of administrative correction a records schedule.

SUMMARY: We are making the following administrative corrections to DAA-0237-2019-0002, of the Federal Aviation Administration for the Traffic Flow Management System. An administrative correction addresses errors or oversights to temporary items in an approved records schedule. We are correcting the cutoff and retention periods.

DATES: Submit any comments by July 22, 2022.

ADDRESSES: You can find the records schedules subject to this proposed administrative correction on our website's Records Control Schedule page at https://www.archives.gov/records-mgmt/rcs.

You may submit comments by either of the following methods.

• Federal eRulemaking Portal: http://www.regulations.gov.

• Due to COVID-19 building closures, we are currently temporarily not accepting comments by mail. However, if you are unable to comment via regulations.gov, you may contact request.schedule@nara.gov for instructions on submitting your comment. You must cite the control number of the schedule you wish to comment on.

FOR FURTHER INFORMATION CONTACT: Kimberly Richardson, Regulatory and External Policy Program Manager, by email at regulation_comments@nara.gov, or by phone. For information about records schedules, contact Records Management Operations by email at request.schedule@nara.gov or by phone at 301.837.1799.

SUPPLEMENTARY INFORMATION: An administrative correction is a change to temporary items on an approved record schedule to address errors or oversights when the records were originally scheduled. This notice applies only to the change described, and not to other portions of the schedule. The submitting agency cannot implement the administrative correction until the comment period ends and NARA approves the change.

This administrative correction should be read in conjunction with the previously approved records schedule DAA-0237-2019-0002, Federal Aviation Administration, Traffic Flow Management System. You can find the schedule on the Records Control Schedule page at https://www.archives.gov/records-mgmt/rcs/schedules/departments/department-of-transportation/rg-0237/daa-0237-2019-0002_sf115.pdf.

We are making an administrative correction to the schedule to expand the retention period and to revise cutoff instructions to be clearer and more implementable. The recommended retention period will be changed from “Destroy 3 years after cutoff” to “Destroy 3 years after cutoff but longer retention is authorized if required for business use.” The updated retention period covers situations where the outside agencies/entities (NASA, NWS, etc.) that have agreements for obtaining TFM-I/TFMS data would renegotiate agreements if they needed data that went further back than the 3 year retention period. In addition, the cutoff will be changed from “After case is closed” to “Cutoff at the end of the calendar year the data is generated.”

This schedule was inadvertently approved before the following changes were made. We reviewed the administrative record and concluded that the agency did agree to these changes. Therefore, we are modifying the schedule for clarity and to make the implementation process as accurate and efficient as possible. We will make a modified approved version in ERA to the schedule to revise the retention period and cutoff instructions.

Laurence Brewer,
Chief Records Officer for the U.S. Government.

[FR Doc. 2022-12194 Filed 6-6-22; 8:45 am]

BILLING CODE 7515-01-P